NUCLEAR REGULATORY COMMISSION

[Docket No. 50-219]

Amergen Energy Company, LLC Oyster Creek Nuclear Generating Station; Notice of Availability of the Final Supplement 28 to the Generic Environmental Impact Statement for License Renewal of Nuclear Plants, Regarding the License Renewal of Oyster Creek Nuclear Generating Station

Notice is hereby given that the U.S. Nuclear Regulatory Commission (NRC, Commission) has published a final plant-specific supplement to the “Generic Environmental Impact Statement for License Renewal of Nuclear Plants (GEIS),” NUREG-1437, regarding the renewal of operating license DPR-16 for an additional 20 years of operation for the Oyster Creek Nuclear Generating Station (OCNGS). OCNGS is located along the western shore of Barnegat Bay between the South Branch of Forked River and Oyster Creek, in Ocean County, New Jersey. Possible alternatives to the proposed action (license renewal) include no action and reasonable alternative energy sources.

As discussed in Section 9.3 of the final Supplement 28, based on: (1) The analysis and findings in the GEIS; (2) the Environmental Report submitted by AmerGen Energy Company, LLC; (3) consultation with Federal, State, and local agencies; (4) the staff's own independent review; and (5) the staff's consideration of public comments, the recommendation of the staff is that the Commission determine that the adverse environmental impacts of license renewal for OCNGS are not so great that preserving the option of license renewal for energy-planning decision makers would be unreasonable.

The final Supplement 28 to the GEIS is publicly available at the NRC Public Document Room (PDR), located at One White Flint North, 11555 Rockville Pike, Rockville, Maryland, 20852, or from the NRC's Agencywide Documents Access and Management System (ADAMS). The ADAMS Public Electronic Reading Room is accessible at http://adamswebsearch.nrc.gov/dologin.htm. The Accession Numbers for the final Supplement 28 to the GEIS are ML070100234 (Volume 1) and ML070100258 (Volume 2). Persons who do not have access to ADAMS, or who encounter problems in accessing the documents located in ADAMS, should contact the NRC's PDR reference staff by telephone at 1-800-397-4209, or 301-415-4737, or by e-mail at pdr@nrc.gov. In addition, the Lacey Public Library, located at 10 East Lacey Road, Forked River, New Jersey 08731, has agreed to make the final Supplement 28 to the GEIS available for public inspection.

For Further Information Contact: Dr. Michael Masnik, Environmental Branch B, Division of License Renewal, Office of Nuclear Reactor Regulation, U.S. Nuclear Regulatory Commission, Mail Stop O-11F1, Washington, DC 20555-0001. Dr. Masnik may be contacted at 1-800-368-5642, extension 1191 or via e-mail at mtm2@nrc.gov.

Dated at Rockville, Maryland, this 17th day of January, 2007.
For the Nuclear Regulatory Commission.
Rani Franovich,
Branch Chief, Environmental Branch B, Division of License Renewal, Office of Nuclear Reactor Regulation.

[FR Doc. E7-798 Filed 1-19-07; 8:45 am]

BILLING CODE 7590-01-P